DEPARTMENT OF LABOR

Office of the Secretary; Proposed Collection; Comment Request

ACTION: Notice.

SUMMARY: The Department of Labor, as part of its continuing effort to reduce paperwork and respondent burden, conducts a pre-clearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, Departmental Management is soliciting comments concerning the proposed revision of the “Customer Satisfaction Surveys and Conference Evaluations Generic Clearance.”

A copy of the proposed information collection request (ICR) can be obtained by contacting the individual listed below in the addresses section of this notice.

DATES: Written comments must be submitted to the Office listed in the addresses section below on or before May 1, 2000.

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

ADDRESSES: Send comments to Karin G. Kurz, OASAM-ITC, 200 Constitution Avenue, NW, Washington, DC 20210. Ms. Kurz can be reached on 202—218-5095, extension 159 (this is not a toll free number).

SUPPLEMENTARY INFORMATION:

I. Background

The Department of Labor (DOL) plans to conduct a variety of voluntary Customer Satisfaction Surveys of regulated/non-regulated entities which will be specifically designed to gather information from a customer's perspective as prescribed by E.O. 12862, Setting Customer Service Standards, September 11, 1993.

These Customer Satisfaction Surveys will provide information on customer attitudes about the delivery and quality of agency products/services and will be used as part of an ongoing process to improve DOL programs. This generic clearance will allow agencies to gather information from both Federal and non-Federal users.

II. Current Actions

Over the past three years the DOL has conducted more than two dozen Customer Satisfaction Surveys which have helped assess the Departments products and services and has led to improvements in areas deemed necessary. In addition to conducting Customer Satisfaction Surveys, the Department would like to include the use of evaluation forms for those DOL agencies conducting user conferences. These evaluations will be helpful in determining the success of the current conference, in developing future conferences, and in meeting the needs of the Department's product/service users.

Type of Review: Revision of a currently approved collection.

Agency: Office of Assistant Secretary for Administration and Management, Departmental Management.

Title: Customer Satisfaction Surveys and Conference Evaluations Generic Clearance.

OMB Number: 1225-0059.

Affected Public: Individuals and households; Business or other for-profit; Not-for-profit institutions; Farms; Federal Government; and State, Local, or Tribal Government.

Total Respondents: Varies by survey/evaluation; may range from as few as 10 to over 63,750.

Frequency: On occasion.

Total Responses: Varies by survey/evaluation; may range from as few as 10 to over 63,750.

Average Time Per Response: Varies by survey/evaluation with an average of 9.5 minutes per survey and 2.5 minutes per evaluation.

Total Burden Hours: 13,500.

Total Burden Cost (capital/startup): $0.

Total Burden Cost (operating/maintenance): $0.

Comments submitted in response to this notice will be summarized and/or included in the request for Office of Management and Budget approval of the information collection request; they also will become a matter of public record.

Signed at Washington, D.C., this 24th day of February 2000.
Karin G. Kurz,
Lead Analyst, Office of the Assistant Secretary for Administration and Management.

[FR Doc. 00-4903 Filed 2-29-00; 8:45 am]

BILLING CODE 4510-23-M